DEPARTMENT OF DEFENSE

Department of the Army

[Docket ID USA-2014-0038]

Privacy Act of 1974; System of Records

AGENCY: Department of the Army, DoD.

ACTION: Notice to alter a System of Records.

SUMMARY: The Department of the Army proposes to alter a system of records notice AAFES 0408.14, entitled “Tuition Assistance Case Files” in its existing inventory of records systems subject to the Privacy Act of 1974, as amended. This system is used to maintain information on participants in the tuition assistance program.

DATES: Comments will be accepted on or before November 19, 2014. This proposed action will be effective on the date following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a(r)), as amended, have been published in the Federal Register and are available from the address in FOR FURTHER INFORMATION CONTACT or from the Defense Privacy and Civil Liberties Office Web site at http://dpclo.defense.gov/. The proposed systems reports, as required by 5 U.S.C. 552a(r) of the Privacy Act, as amended, were submitted on October 6, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: October 14, 2014.
Aaron Siegel,
Alternate OSD Federal Register Liaison Officer, Department of Defense.

AAFES 0408.14

System name:

Tuition Assistance Case Files (August 9, 1996, 61 FR 41572).

Changes:

* * * * *

Categories of records in the system:

Delete entry and replace with “Participant's name, current address, telephone number; application, academic transcripts, curricula, grade reports, request for disbursement, and Exchange approval/disapproval documents.”

Authority for maintenance of the system:

Delete entry and replace with “10 U.S.C. 3013, Secretary of the Army; 10 U.S.C. 8013, Secretary of the Air Force; Army Regulation 215-1, The Administration of Morale, Welfare, and Recreation Activities and Non-appropriated Fund Instrumentalities; and Army Regulation 215-8/AFI 34-211(I), Army & Air Force Exchange Service Operations.”

* * * * *

Retrievability:

Delete entry and replace with “Participant's name.”

Safeguards:

Delete entry and replace with “Records are maintained in a controlled facility. Physical entry is restricted by the use of locks, guards, and is accessible only to authorized personnel. Access to records is limited to person(s) with an official “need to know” who are responsible for servicing the record in performance of their official duties. Persons are properly screened and cleared for access.”

Retention and disposal:

Delete entry and replace with “Records are cut-off at the close of the fiscal year in which the course is completed, or two years after the date of the last action if the completion date is not known. Destroy by shredding two years after the cut-off.”

System manager(s) and address:

Delete entry and replace with “Director/Chief Executive Officer, Army and Air Force Exchange Service, 3911 South Walton Walker Blvd., Dallas, TX 75236-1598.”

Notification procedure:

Delete entry and replace with “Individuals seeking to determine whether information about themselves is contained in this system should address written inquiries to the Director/Chief Executive Officer, Army and Air Force Exchange Service, 3911 South Walton Walker Blvd., Dallas, TX 75236-1598.

Requests should contain the individual's full name, current address, telephone number, details concerning application for tuition assistance, and signature.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths:

`I declare (or certify, verify, or state) under penalty of perjury that the foregoing is true and correct. Executed on (date). (Signature)'.”

Record access procedures:

Delete entry and replace with “Individuals seeking access to information about themselves contained in this system should address written inquiries to the Director/Chief Executive Officer, Army and Air Force Exchange Service, 3911 South Walton Walker Blvd., Dallas, TX 75236-1598.

Requests should contain the individual's full name, current address, telephone number, and signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

* * * * *

[FR Doc. 2014-24767 Filed 10-17-14; 8:45 am]

BILLING CODE 5001-06-P